DEPARTMENT OF LABOR

Employment and Training Administration

[TA-W-53,997]

Hollister, Inc., Kirksville Manufacturing, Kirksville, MO; Notice of Determination of Alternative Trade Adjustment Assistance on Remand

The U.S. Court of International Trade (USCIT) granted the Secretary of Labor's motion for a voluntary remand for further investigation in Former Employees of Hollister, Inc. v. Elaine Chao, U.S. Secretary of Labor, No. 04-00262, on February 1, 2005.

The workers of Hollister, Inc., Kirksville Manufacturing, Kirksville, Missouri (“Hollister”) were certified as eligible to apply for Trade Adjustment Assistance (TAA) on February 11, 2004. The Notice of determination was published in the Federal Register on March 12, 2004 (69 FR 11890).

By letter dated March 19, 2004, the United Automotive Workers, Local 710, requested that Alternative Trade Adjustment Assistance (ATAA) be included in the TAA petition. The request was dismissed because the application for ATAA was not filed with the TAA petition, as required by the Secretary's interpretation of Section 246 of the Trade Act, Training and Employment Guidance Letter No. 2-03 (August 6, 2003). 69 FR 60904, October 13, 2004.

On June 28, 2004, the Plaintiff appealed to the USCIT, asserting that the workers were not provided the assistance and opportunity to request ATAA because the requirements for applying for ATAA were ambiguous.

On October 29, 2004, the Department issued Training and Employment Guidance Letter No. 2-03, Change 2, “Requests for Certification under the Alternative Trade Adjustment Assistance (ATAA) Program for Certain Worker Groups Covered by Certified TAA Petitions” (TEGL 2-03, Change 2). 70 FR 8829-02, February 23, 2005. The Department's new TEGL concerning the filing of requests for group ATAA certification provides that worker groups whose petitions were still in process at the time of implementation of the ATAA program on August 6, 2003 and certified worker groups who filed petitions which did not include an option to apply for ATAA may request group ATAA certification after the filing of a TAA petition.

The Department construes the Plaintiff's letters as timely requests for group ATAA certification under TEGL 2-03, Change 2. Accordingly, the Department has conducted an investigation to determine the workers' eligibility to apply for ATAA certification.

The group eligibility certification criteria for the ATAA program under Section 246 the Trade Act of 1974 (19 U.S.C. 2813), as amended, established that the Department must determine whether a significant number of workers in the workers' firm are 50 years of age or older, whether the workers in the workers' firm possess skills that are not easily transferable, and whether the competitive conditions within the workers' industry are adverse.

The remand investigation revealed that at least five percent of the workforce at the subject firm is at least fifty years of age, the workers possess skills that are not easily transferable, and competitive conditions within the industry are adverse.

Conclusion

After careful review of the facts, I conclude that the requirements of Section 246 of the Trade Act of 1974, as amended, have been met for workers at the subject firm. In accordance with the provisions of the Act, I make the following certification:

All workers at Hollister, Inc., Kirksville Manufacturing, Kirksville, Missouri, who became totally or partially separated from employment on or after January 7, 2003 through February 11, 2006, are eligible to apply for adjustment assistance under Section 223 of the Trade Act of 1974, and are also eligible to apply for alternative trade adjustment assistance under Section 246 of the Trade Act of 1974.

Signed at Washington, DC, this 10th day of March, 2005.
Elliott S. Kushner,
Certifying Officer, Division of Trade Adjustment Assistance.

[FR Doc. E5-1346 Filed 3-25-05; 8:45 am]

BILLING CODE 4510-30-P